DEPARTMENT OF LABOR

Office of the Secretary

Submission for OMB Review: Comment Request

January 17, 2008.

The Department of Labor (DOL) hereby announces the submission of the following public information collection requests (ICR) to the Office of Management and Budget (OMB) for review and approval in accordance with the Paperwork Reduction Act of 1995 (Pub. L. 104-13, 44 U.S.C. chapter 35). A copy of each ICR, with applicable supporting documentation; including among other things a description of the likely respondents, proposed frequency of response, and estimated total burden may be obtained from the RegInfo.gov Web site at http://www.reginfo.gov/public/do/PRAMain or by contacting Darrin King on 202-693-4129 (this is not a toll-free number)/e-mail: king.darrin@dol.gov.

Interested parties are encouraged to send comments to the Office of Information and Regulatory Affairs, Attn: John Kraemer, OMB Desk Officer for the Occupational Safety and Health Administration (OSHA), Office of Management and Budget, Room 10235, Washington, DC 20503, Telephone: 202-395-7316/Fax: 202-395-6974 (these are not toll-free numbers), e-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration.

Type of Review: Extension without change of a previously approved collection.

Title of Collection: Notice of Alleged Safety or Health Hazards.

OMB Control Number: 1218-0064.

Agency Form Number: OSHA-7.

Affected Public: Individuals or households.

Estimated Number of Respondents: 48,298.

Estimated Total Annual Burden Hours: 12,775.

Estimated Total Annual Costs Burden: $990.

Description: The OSHA-7 Form is used by employees who wish to report unhealthful and/or unsafe conditions at their place of employment. This information is used by OSHA to evaluate the alleged hazards and to schedule an inspection. For additional information, see related notice published at 72 FR 61377 on October 30, 2007.

Agency: Occupational Safety and Health Administration.

Type of Review: Extension without change of a previously approved collection.

Title of Collection: 29 CFR Part 1904 Recordkeeping and Reporting Occupational Injuries and Illnesses.

OMB Control Number: 1218-0176.

Agency Form Numbers: OSHA-300; OSHA-300A; and OSHA-301.

Affected Public: Private Sector: Business or other for-profits.

Estimated Number of Respondents: 1,541,900.

Estimated Total Annual Burden Hours: 3,072,980.

Estimated Total Annual Costs Burden: $0.

Description: The Occupational Safety and Health Act (Pub. L. 91-596) and 29 CFR Part 1904 prescribe that certain employers maintain records of job-related injuries and illnesses. The data are needed by OSHA to carry out intervention and enforcement activities that help ensure workers are provided with safe and healthful workplaces. The data are also used by the Bureau of Labor Statistics in order to produce national statistics on occupational injuries and illnesses (See OMB Number 1220-0045, Survey of Occupational Injuries and Illnesses). For additional information, see related notice published at 72 FR 60028 on October 23, 2007.

Darrin A. King,
Acting Departmental Clearance Officer.

[FR Doc. E8-1194 Filed 1-23-08; 8:45 am]

BILLING CODE 4510-26-P